ENVIRONMENTAL PROTECTION AGENCY

40 CFR Part 52

[IN126-1b; FRL-6986-3]

Approval and Promulgation of Implementation Plans; Indiana

AGENCY: Environmental Protection Agency (EPA).

ACTION: Proposed rule.

SUMMARY: The EPA is proposing to approve revisions to particulate matter (PM) emissions regulations for the Johns Manville Corporation (Johns Manville) of Wayne County, Indiana. The Indiana Department of Environmental Management (IDEM) submitted the revised regulations on December 30, 1999 as an amendment to its State Implementation Plan (SIP). The revisions consist of increasing seven long-term limits, decreasing one short-term limit, removing an emissions source, and changing the company's name. These revisions will allow the Johns Manville facility to operate 8760 hours annually.

DATES: The EPA must receive written comments on this proposed rule by July 2, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What action is EPA taking today?

II. Where can I find more information about this proposal and the corresponding direct final rule?

I. What Action Is EPA Taking Today?

The EPA is proposing to approve revisions to the total suspended particulate (TSP) emissions regulations for Johns Manville in Wayne County, Indiana. IDEM submitted the revised regulation on December 30, 1999 as an amendment to its SIP.

The revisions consist of increasing seven long-term limits, decreasing one short-term limit, removing an emissions source, and a changing the company's name. These revisions allow the Johns Manville facility to operate 8760 hours annually.

II. Where Can I Find More Information About This Proposal and the Corresponding Direct Final Rule?

For additional information see the direct final rule published in the rules section of this Federal Register.

Dated: May 9, 2001.
Norman Neidergang,
Acting Regional Administrator, Region 5.

[FR Doc. 01-13503 Filed 5-30-01; 8:45 am]

BILLING CODE 6560-50-P